DEPARTMENT OF THE TREASURY

Office of the Comptroller of the Currency

FEDERAL DEPOSIT INSURANCE CORPORATION

NATIONAL CREDIT UNION ADMINISTRATION

Agency Information Collection Activities: Proposed Information Collection; Submission for OMB Review

AGENCIES: Office of the Comptroller of the Currency, Treasury (OCC); Federal Deposit Insurance Corporation (FDIC); and National Credit Union Administration (NCUA).

ACTION: Joint Notice and Request for Comment.

SUMMARY: The Office of the Comptroller of the Currency (OCC); Federal Deposit Insurance Corporation (FDIC); and National Credit Union Administration (NCUA) (the Agencies) as part of their continuing effort to reduce paperwork and respondent burden, invites the general public and other Federal agencies to take this opportunity to comment on a new information collection, as required by the Paperwork Reduction Act of 1995.

An agency may not conduct or sponsor, and a respondent is not required to respond to, an information collection unless it displays a currently valid OMB control number. The OCC, FDIC and NCUA are soliciting comment concerning their information collection titled, “Interagency Appraisal Complaint Form.”

The Office of the Comptroller of the Currency (OCC) is also announcing that the proposed collection of information has been submitted to the Office of Management and Budget (OMB) for review and clearance under the Paperwork Reduction Act of 1995.

DATES: Comments must be received by February 28, 2013.

ADDRESSES: Communications Division, Office of the Comptroller of the Currency, Mailstop 6W-11, Attention: 1557-NEW, Washington, DC 20219. In addition, comments may be sent by fax to (202) 649-5709 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

Additionally, please send a copy of your comments by mail to: OCC Desk Officer, 1557-NEW, U.S. Office of Management and Budget, 725 17th Street NW., #10235, Washington, DC 20503, or by electronic mail to oira_submission@omb.eop.gov.

FDIC: You may submit comments by any of the following methods:

• Federal eRulemaking Portal: http://www.regulations.gov. Follow the instructions for submitting comments.

• Agency Web site: http://www.FDIC.gov/regulations/laws/federal/notices.html.

• Mail: Robert E. Feldman, Executive Secretary, Attention: Comments/Legal ESS, Federal Deposit Insurance Corporation, 550 17th Street NW., Washington, DC 20429.

• Hand Delivered/Courier: The guard station at the rear of the 550 17th Street Building (located on F Street), on business days between 7:00 a.m. and 5:00 p.m.

• Email: comments@FDIC.gov.

Instructions: Comments submitted must include “FDIC” and “Interagency Appraisal Complaint Form.” Comments received will be posted without change to http://www.FDIC.gov/regulations/laws/federal/notices.html, including any personal information provided.

NCUA: Interested parties are invited to submit written comments to both the NCUA PRA Contact and OMB Reviewer listed here:

• NCUA PRA Contact: Tracy Crews, National Credit Union Administration, 1775 Duke Street, Alexandria, Virginia 22314-3428, Fax No. 703-837-2861, or Email: OCIOmail@ncua.gov; and

• OMB Contact: Office of Management and Budget; ATTN: Desk Officer for NCUA; Office of Information and Regulatory Affairs, Washington, DC 20503.

FOR FURTHER INFORMATION CONTACT: You can request additional information or a copy of the collection from:

OCC: Johnny Vilela or Mary H. Gottlieb, OCC Clearance Officers, (202) 649-5490, Legislative and Regulatory Activities Division, Office of the Comptroller of the Currency, Washington, DC 20219.

FDIC: Beverlea S. Gardner, Senior Examination Specialist, Risk Management Section, at (202) 898-3640, Sumaya A. Muraywid, Examination Specialist, Risk Management Section, at (573) 875-6620, Richard Foley, Counsel, Legal Division, at (202) 898-3784, Mark Mellon, Counsel, Legal Division, at (202) 898-3884, or 550 17th St. NW., Washington, DC 20429.

NCUA: Laura Todor, Consumer Affairs Officer, NCUA Office of Consumer Protection, 1775 Duke St., Alexandria, VA 22314, by phone at (703) 518-1149, or by email at ltodor@ncua.gov.

SUPPLEMENTARY INFORMATION: In compliance with 44 U.S.C. 3507, the Agencies have submitted the following proposed collection of information to OMB for review and clearance.

Interagency Appraisal Complaint Form—(OMB Control Number OCC 1557-NEW; FDIC 3064-NEW; NCUA 3133-NEW)

Under section 1473(p) of the Dodd-Frank Wall Street Reform and Consumer Protection Act,¹ if the Appraisal Subcommittee (“ASC”), a subcommittee of the Federal Financial Institutions Examination Council (FFIEC), determines, six months after enactment of that section (i.e., January 21, 2011) that no national hotline exists to receive complaints of non-compliance with appraisal independence standards and Uniform Standards of Professional Appraisal Practice (USPAP), including complaints from appraisers, individuals, or other entities concerning the improper influencing or attempted improper influencing of appraisers or the appraisal process, then the ASC shall establish and operate such a hotline (“ASC Hotline”), which shall include a toll-free telephone number and an email address. Section 1473(p) further directs the ASC to refer complaints received through the ASC Hotline to the appropriate government bodies for further action, which may include referrals to the Agencies, Federal Reserve Board, Consumer Financial Protection Bureau, and State agencies. The ASC determined that a national appraisal hotline does not exist at a meeting held on January 12, 2011, and a notice of this determination was published in the Federal Register on January 28, 2011 (76 FR 5161). Currently, the ASC is in the process of establishing the ASC hotline, which will refer complaints to appropriate state and federal regulators.

¹ Dodd-Frank Wall Street Reform and Consumer Protection Act § 1473, Pub. L. 111-203, 124 Stat. 1376, July 21, 2010; 12 U.S.C. § 3351(i).

Representatives from the Agencies, the Federal Reserve Board, and the Consumer Financial Protection Bureau have been meeting to establish a process to facilitate the referral of complaints received through the ASC Hotline to the appropriate federal financial institution regulatory agency or agencies. The Agencies and the Federal Reserve Board have developed the Interagency Appraisal Complaint Form to collect information necessary to take further action on the complaint. In preparing this notice, the Agencies have availed themselves of all means reasonably available to determine accurate estimates of the number of complaints they anticipate receiving as the result of the Interagency Appraisal Complaint Form.

Description of the Interagency Appraisal Complaint Form

The Agencies and the Federal Reserve Board developed the Interagency Appraisal Complaint Form for use by those who wish to file a formal, written complaint that an entity subject to the jurisdiction of one or more Agencies or the Federal Reserve Board has failed to comply with the appraisal independence standards or USPAP. The Interagency Appraisal Complaint Form is designed to collect information necessary for one or more Agencies or the Federal Reserve Board to take further action on a complaint from an appraiser, other individual, financial institution, or other entities. Each appropriate Agency or the Federal Reserve Board will use the information to take further action on the complaint to the extent it relates to an issue within its jurisdiction. The Federal Reserve Board will be seeking approval for the Interagency Appraisal Complaint Form through a separate notice.

Comment Summary

In the Federal Register of October 22, 2012 (77 FR 64595), the Agencies published a 60-day notice requesting public comment on the Interagency Appraisal Complaint Form and the collection of information. The Agencies received one comment letter signed by two professional appraiser organizations.

The comment letter expressed the view that Congress intended that the ASC Hotline would be used solely for complaints concerning appraiser independence. The comment letter further recommended that the ASC report statistical summaries of information about the number and disposition of complaints received by the hotline, but that it refrain from disclosing the identities of the parties involved. Finally, the comment letter urged the Agencies to consider the impact on state agencies if the Interagency Appraisal Complaint Form is not limited to appraiser independence issues.

The Agencies carefully considered the comment received and note that this notice concerns only the development by the Agencies of the Interagency Appraisal Complaint Form. The Agencies note that the ASC is responsible for the development of the ASC Hotline, including establishing a process for receiving complaints, identifying the appropriate Federal or State regulator, referring the complaints to such regulator, and providing reports on the complaints received. The development of that process is outside the scope of this notice, and the Agencies cannot comment on behalf of the ASC, an independent agency. However, the Agencies note that the ASC is not responsible for developing the Interagency Appraisal Complaint Form.

The Agencies developed the Interagency Appraisal Complaint Form as a means to efficiently collect information in circumstances where the ASC determines the OCC, FDIC, or NCUA is the appropriate regulator. While the Interagency Appraisal Complaint Form is focused on complaints regarding appraisal independence standards and USPAP, the Agencies' responsibilities for considering complaints extends beyond these concerns, and the Agencies intend to consider all received complaints in a consistent manner, regardless of their source. As a practical matter, the Agencies expect to receive complaints concerning appraisers from a variety of sources, and that only some of those complaints will have been directed to the Agencies via the ASC Hotline. The Agencies believe it is important to use a form that is general and flexible enough to allow a complainant to express the nature of a complaint without restricting what types of complaints are allowable. Moreover, a State entity is not required to use the Interagency Appraisal Complaint Form and the Agencies' use of the form need have no impact on any existing State complaint processes. The Agencies and the Federal Reserve Board developed the Interagency Appraisal Complaint Form for their own use, and the burden estimates are limited to complaints each of the Agencies reasonably anticipates receiving from ASC Hotline referrals. Such estimates are not intended to encompass the total complaints received by the ASC through the ASC Hotline, the total number of complaints referred by the ASC to the appropriate regulator(s), or the total complaints expected to be received independent of ASC Hotline referrals.

Burden Estimates

The OCC, FDIC and NCUA estimate that the burden of this collection of information is as follows:

Interagency appraisal complaint form | Number of respondents | Number of responses per respondent | Annual number of responses | Burden per response | Total hours
OCC | 1,500 | 1 | 1,500 | 0.5 | 750
NCUA | 300 | 1 | 300 | 0.5 | 150
FDIC | 200 | 1 | 200 | 0.5 | 100
Total | 2,000 |  |  |  | 1,000

OCC

OMB Control Number: 1557-NEW.

Estimated Number of Respondents: 1500.

Estimated Burden per Response: 0.5.

Estimated Total Annual Burden: 750.

FDIC

OMB Control Number: 3064-NEW.

Estimated Number of Respondents: 200.

Estimated Burden per Response: 0.5.

Estimated Total Annual Burden: 100.

NCUA

OMB Control Number: 3133-NEW.

Estimated Number of Respondents: 300.

Estimated Burden per Response: 0.5.

Estimated Total Annual Burden: 150.

Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: January 22, 2013.
Michele Meyer,
Assistant Director, Legislative and Regulatory Activities Division, OCC.
Dated: January 22, 2013.
Robert E. Feldman,
Executive Secretary, Federal Deposit Insurance Corporation.
Dated: January 16, 2013.
Mary Rupp,
Secretary of the Board, NCUA.

[FR Doc. 2013-01765 Filed 1-28-13; 8:45 am]

BILLING CODE 7535-01-P; 6714-01-P; P